ENVIRONMENTAL PROTECTION AGENCY

[FRL-7520-4]

Meeting of the National Drinking Water Advisory Council (NDWAC)

AGENCY: Environmental Protection Agency.

ACTION: Notice of public meeting.

SUMMARY: In accordance with section 10(a)(2) of Public Law 92-423, “The Federal Advisory Committee Act,” notice is hereby given of the forthcoming conference call meeting of the National Drinking Water Advisory Council (Council), established under the Safe Drinking Water Act, as amended (42 U.S.C. 300f et seq.). The Council will discuss follow-up actions relating to a report presented at the May 2003 meeting by NDWAC's work group on Affordability. The Council will determine whether it will make specific recommendations to EPA relating to the Affordability report. This is a follow-up conference call to the conference call held on June 20, 2003.

DATES: The Council meeting will be held on July 10, 2003, from 10 a.m. to 12 p.m., Eastern Standard Time.

ADDRESSES: Council members teleconference into Room 2123 of the EPA East Building, which is physically located at 1201 Constitution Avenue, NW., Washington, DC.

FOR FURTHER INFORMATION CONTACT: Members of the public that would like to attend the meeting, present an oral statement, submit a written statement in advance, or make arrangements to teleconference call into the meeting should contact Brenda Johnson, Designated Federal Officer, National Drinking Water Advisory Council, by July 3, 2003. Ms. Johnson can be reached at (202) 564-3791, by e-mail at johnson.brendap@epa.gov, or by regular mail at U.S. Environmental Protection Agency, Office of Ground Water and Drinking Water (M/C 4601M), 1200 Pennsylvania Avenue, NW., Washington, DC 20460.

SUPPLEMENTARY INFORMATION: The Council encourages the public's input and will allocate 30 minutes for this purpose. A limited number of additional phone lines may be available for members of the public that are outside of the Washington, DC, metropolitan commuting area and are unable to attend in person. Any additional teleconferencing lines that are available will be reserved on a first-come, first-serve basis by the Designated Federal Officer. To ensure adequate time for public involvement, oral statements will be limited to five minutes, and it is preferred that only one person present the statement on behalf of a group or organization. Any person who wishes to file a written statement can do so before or after a Council meeting. Written statements received prior to the meeting will be distributed to all members of the Council before any final discussion or vote is completed. Any statements received after the meeting will become part of the permanent meeting file and will be forwarded to the Council members for their information. Any person needing special accommodations at this meeting, including wheelchair access, should contact the Designated Federal Officer, at the number or e-mail listed under the FOR FURTHER INFORMATION CONTACT section, at least five business days before the meeting so that the appropriate arrangements can be made.

Nanci Gelb,
Acting Director, Office of Ground Water and Drinking Water.

[FR Doc. 03-16588 Filed 6-30-03; 8:45 am]

BILLING CODE 6560-50-P